EQUAL EMPLOYMENT OPPORTUNITY COMMISSION

Agency Information Collection Activities: Existing Collection

AGENCY: Equal Employment Opportunity Commission

ACTION: Notice of information collection—Proposed revision of the Employer Information Report (EEO-1) Component 1.

SUMMARY: In accordance with the Paperwork Reduction Act (PRA), the Equal Employment Opportunity Commission (EEOC or Commission) announces that it intends to submit to the Office of Management and Budget (OMB) a request for a three-year PRA approval of revisions to the currently approved Component 1 of the Employer Information Report (EEO-1).¹ This PRA submission for the EEO-1 Component 1 does not change the types of demographic workforce data historically collected by the EEO-1 (i.e., employee data by job category and sex and race or ethnicity). Rather, as part of this routine three-year clearance for Component 1 under the PRA, the EEOC seeks OMB approval of measures that streamline and modernize how the current EEO-1 Component 1 workforce demographic data are collected from employers.

¹ Component 1 of the EEO-1 refers to the demographic data the EEOC has collected since 1966. The EEOC called its historic, first-time collection of pay data from certain private employers and federal contractors Component 2 of the EEO-1. The Component 2 collection was completed in February 2020. On July 28, 2022, the National Academies of Sciences, Engineering, and Medicine (NASEM) issued a Consensus Study Report evaluating the Component 2 pay data collection and providing recommendations for future data collections. The EEOC is carefully evaluating NASEM's recommendations as they relate to the EEO-1 Component 1 data collection and may request modification of the EEO-1 Component 1 collection in the future. The Consensus Report is available at https://nap.nationalacademies.org/catalog/26581/evaluation-of-compensation-data-collected-through-the-eeo-1-form.

DATES: Written comments on this notice must be submitted on or before January 9, 2023.

ADDRESSES: You may submit comments by any of the following methods—please use only one method:

Federal eRulemaking Portal: http://www.regulations.gov. Follow the instructions on the website for submitting comments.

Mail: Comments may be submitted by mail to Shelley Kahn, Acting Executive Officer, Executive Secretariat, Equal Employment Opportunity Commission, 131 M Street NE, Washington, DC 20507.

Fax: Comments totaling six or fewer pages can be sent by facsimile (“fax”) machine to (202) 663-4114 (this is not a toll-free number). Receipt of fax transmittals will not be acknowledged, except that the sender may request confirmation of receipt by calling the Executive Secretariat staff at (202) 921-2815 (voice) (this is not a toll-free number) or 800-669-6820 (TTY).

Instructions: All comments received must include the agency name and docket number. All comments received will be posted without change to http://www.regulations.gov, including any personal information provided. However, the EEOC reserves the right to refrain from posting libelous or otherwise inappropriate comments, including those that contain obscene, indecent, or profane language; that contain threats or defamatory statements; that contain hate speech directed at race, color, sex, national origin, age, religion, disability, or genetic information; or that promote or endorse services or products.

Copies of comments received are also available for review at the Commission's library. Copies of comments received in response to this notice will be made available for viewing by appointment only at 131 M Street NE, Suite 4NW08R, Washington, DC 20507. Members of the public may schedule an appointment by sending an email to the following address: OEDA@eeoc.gov.

FOR FURTHER INFORMATION CONTACT: Paul Guerino, Director, Data Development and Information Products Division, Office of Enterprise Data and Analytics (OEDA), Equal Employment Opportunity Commission, 131 M Street NE, Washington, DC 20507; (202) 921-2928 (voice), (800) 669-6820 (TTY) or email at OEDA@eeoc.gov. Requests for this notice in an alternative format should be made to the EEOC's Office of Communications and Legislative Affairs (OCLA) at (202) 921-3191 (voice), (800) 669-6820 (TTY), or (844) 234-5122 (ASL Video Phone).

SUPPLEMENTARY INFORMATION: Since 1966, the EEOC has required EEO-1 filers to submit workforce demographic data (Component 1) on an annual basis. All private employers that are covered by Title VII of the Civil Rights Act of 1964, as amended (Title VII) ² and that have 100 or more employees are required to file the workforce demographic Component 1 data. In addition, Office of Federal Contract Compliance Programs (OFCCP) regulations require certain federal contractors to file the EEO-1 if they have 50 or more employees and are not exempt as provided for by 41 CFR 60-1.5.³

² 42 U.S.C. 2000e, et seq.

³ Unless otherwise noted, the term “contractor” refers to federal contractors and first-tier subcontractors that satisfy the employee and contract size coverage criteria that subject them to EEO-1 Component 1 reporting obligations. The terms “private employers” and “private industry” refer to all other entities required to file the EEO-1 Component 1 that are not included in the “contractor” designation. The terms “employer” and “filer” refer collectively to all entities that are required to file EEO-1 Component 1 data.

Pursuant to the PRA and OMB regulations found at 5 CFR 1320.8(d)(1), the Commission solicits public comment on its intent to seek a three-year approval of revisions to the currently approved EEO-1 Component 1 to: (1) Evaluate whether the proposed collection of information is necessary for the proper performance of the Commission's functions, including whether the information will have practical utility; (2) Evaluate the accuracy of the Commission's estimate of the burden of the proposed collection of information, including the validity of the methodology and assumptions used; (3) Enhance the quality, utility, and clarity of the information to be collected; and (4) Minimize the burden of the collection of information on those who are to respond, including the use of appropriate automated, electronic, mechanical, or other technological collection techniques or other forms of information technology, e.g., permitting electronic submission of responses.

Based on data trends over the last three EEO-1 Component 1 data collection reporting years (i.e., 2019, 2020, 2021), as well as ongoing updates by the EEOC to the EEO-1 Component 1 frame (i.e., filer roster or master list), the EEOC believes the total number of filers submitting at least one report may increase to 110,000. Accordingly, the EEOC is calculating the burden estimates in this Notice based on this revised estimate of the number of filers.

Overview of Information Collection

Collection Title: Employer Information Report (EEO-1) Component 1.

OMB Number: 3046-0049.

Frequency of Report: Annual.

Type of Respondent: Private employers with 100 or more employees and federal contractors that have 50 or more employees and meet certain criteria.

Description of Affected Public: Private employers with 100 or more employees and federal contractors that have 50 or more employees and meet certain criteria.

Reporting Hours: 5,238,467 hours per annual collection

Respondent Burden Hour Cost: $272,275,151.80 per annual collection.⁴

⁴ This estimate is based on the most recent median pay data from the U.S. Bureau of Labor Statistics. The EEOC estimated that a computer network specialist accounts for 60% of the estimated hourly wage; a database administrator and architect would account for 20%; an HR specialist would account for 10%; legal counsel would account for 5%, and a CEO would account for 5%, yielding a total estimated hourly wage of $34.66. See U.S. Dept. of Labor, Bureau of Labor Statistics, Occupational Outlook Handbook, https://www.bls.gov/ooh/. Wages cited are median hourly wages.

Federal Cost: $4,113,388.55 per annual collection.

Number of Filers: 110,000 per annual collection.⁵

⁵ This estimate is based on the number of filers who were identified as being potentially eligible at the end of the 2019 and 2020 EEO-1 Component 1 data collections (approximately 90,000 filers) and at the end of the 2021 EEO-1 Component 1 data collection cycle (approximately 98,000 filers). Based on the increases over the last three EEO-1 Component 1 data collection cycles, as well as ongoing updates by the EEOC to the frame (i.e., filer roster or master list), the EEOC estimates an increase of 12,000 potentially eligible filers from the 2021 EEO-1 Component 1 data collection.

Number of Responses: 2,235,938 reports per annual collection.⁶

⁶ In the prior EEO-1 Component 1 Information Collection Review (ICR) for reporting years 2019, 2020, and 2021, the term “records” was used interchangeably with the term “reports” to refer to the “reports” submitted by filers. Beginning with the ICR for reporting years 2022, 2023, and 2024, the EEOC will no longer use the term “records” to refer to “reports” submitted by filers. For the proposed EEO-1 Component 1 data collections for reporting years 2022, 2023, and 2024, “reports” include the following types of reports: a “Single-Establishment Filer Report” (formerly referred to as a “Type 1” Report); a “Consolidated Report” (formerly referred to as a “Type 2” Report); a “Headquarters Report” (formerly referred to as a “Type 3” Report); and an “Establishment-Level Report” (formerly referred to as a “Type 4” Report for establishments with 50 or more employees and a “Type 8” Report for establishments with fewer than 50 employees).

Number of Forms: 1.

Form Number: EEOC Standard Form 100 (SF 100).

Abstract: Section 709(c) of Title VII of the Civil Rights Act of 1964 (Title VII) requires employers to make and keep records relevant to the determination of whether unlawful employment practices have been or are being committed, to preserve such records, and to produce reports as the Commission prescribes by regulation or order.⁷ Pursuant to this statutory authority, the EEOC in 1966 issued a regulation requiring certain employers to file executed copies of the EEO-1 in conformity with the directions and instructions on the form, which called for reporting employee data by job category and by sex and race or ethnicity.⁸ Pursuant to Executive Order 11246,⁹ the Office of Federal Contract Compliance Programs (OFCCP), U.S. Department of Labor, in 1978 issued its regulation describing the EEO-1 as a report “promulgated jointly with the Equal Employment Opportunity Commission” and requiring certain contractors to submit “complete and accurate reports” annually.¹⁰ Under these authorities, private employers with 100 or more employees and federal contractors that have 50 or more employees and meet certain criteria are required to report annually the number of individuals they employ by job category ¹¹ and by sex and race or ethnicity.¹² These data are currently collected electronically by the EEOC through a web-based data collection application (i.e., portal) referred to as the EEO-1 Component 1 Online Filing System.¹³ Filers must submit their data electronically to the web-based portal through either manual entry or the upload of a data file. The individual EEO-1 reports are confidential.¹⁴ EEO-1 data are used by the EEOC to investigate charges of employment discrimination against employers in private industry and to publish periodic reports on workforce demographics.¹⁵

⁷ 42 U.S.C. 2000e-8(c).

⁸ The EEOC's EEO-1 regulation is at 29 CFR part 1602 Subpart B. The EEOC is responsible for obtaining OMB's PRA approval for the EEO-1 report.

⁹ Exec. Order No. 11246, 30 FR 12319 (Sept. 24, 1965).

¹⁰ 41 CFR 60-1.7(a). OFCCP obtains EEO-1 reports for federal contractors and subcontractors (contractors) pursuant to its own legal authority under E.O. 11246 and its implementing regulations. See id at 60-1.7(a)(1). Because OFCCP obtains EEO-1 data for contractors under its own E.O. 11246 authority, some courts have ruled that the Title VII prohibition against disclosure does not apply to OFCCP's collection of EEO-1 data. See, e.g., United Techs. Corp. v. Marshall, 464 F. Supp. 845, 851-52 (D. Conn. 1979); Sears Roebuck & Co. v. Gen. Servs. Admin., 509 F.2d 527, 529 (D.C. Cir. 1974). Accordingly, the EEO-1 data of federal contractors received by OFCCP may be subject to potential disclosure by OFCCP under the Freedom of Information Act (FOIA), although FOIA exemptions may prevent disclosure. There is currently pending before OFCCP a FOIA request by a journalist for Type 2 Consolidated EEO-1 Reports submitted by federal contractors and first-tier subcontractors from 2016-2020. In previous litigation between OFCCP and the FOIA requester, the district court held that the evidence did not support a finding that the EEO-1 Type 2 reports were commercial, and thus the 10 Type 2 EEO-1 reports at issue in that case could not be withheld under FOIA Exemption 4. See Ctr for Investigative Reporting v. Dep't of Labor, 424 F. Supp. 3d 771, 778-79 (N.D. Cal. 2019). In response to the current FOIA request, OFCCP notified federal contractors and first-tier subcontractors that if they object to disclosure of their reports, they should submit objections to OFCCP by October 19, 2022. See Federal Register:: Notice of Request Under the Freedom of Information Act for Federal Contractors' Type 2 Consolidated EEO-1 Report Data. For more information, see the Department of Labor's FOIA regulations at 41 CFR part 70 and frequently asked questions (Freedom of Information Act (FOIA) Frequently Asked Questions | U.S. Department of Labor (dol.gov)).

¹¹ The 10 job categories are: Executive/Senior Level Officials and Managers; First/Mid-Level Officials and Managers; Professionals; Technicians; Sales Workers; Administrative Support Workers; Craft Workers; Operatives; Laborers and Helpers; and Service Workers.

¹² The EEO-1 uses federal race and ethnicity categories, which were adopted by the Commission in 2005 and implemented in 2007. The seven race/ethnicity categories are: Hispanic or Latino—A person of Cuban, Mexican, Puerto Rican, South or Central American, or other Spanish culture or origin regardless of race. White (Not Hispanic or Latino)—A person having origins in any of the original peoples of Europe, the Middle East, or North Africa. Black or African American (Not Hispanic or Latino)—A person having origins in any of the black racial groups of Africa. Native Hawaiian or Other Pacific Islander (Not Hispanic or Latino)—A person having origins in any of the peoples of Hawaii, Guam, Samoa, or other Pacific Islands. Asian (Not Hispanic or Latino)—A person having origins in any of the original peoples of the Far East, Southeast Asia, or the Indian Subcontinent, including, for example, Cambodia, China, India, Japan, Korea, Malaysia, Pakistan, the Philippine Islands, Thailand, and Vietnam. American Indian or Alaska Native (Not Hispanic or Latino)—A person having origins in any of the original peoples of North and South America (including Central America), and who maintain tribal affiliation or community attachment. Two or More Races (Not Hispanic or Latino)—All persons who identify with more than one of the above five races. OMB is in the process of reviewing and revising its standards for maintaining, collecting, and presenting federal data on race and ethnicity. See https://www.whitehouse.gov/omb/briefing-room/2022/06/15/reviewing-and-revising-standards-for-maintaining-collecting-and-presenting-federal-data-on-race-and-ethnicity/. The EEOC will carefully consider the revision to the federal standards for collecting race and ethnicity data, which are expected by summer 2024, for use in future data collections.

¹³ EEO-1 filers may access the EEO-1 Component 1 Online Filing System through the EEOC's dedicated EEO-1 Component 1 website at www.eeocdata.org/eeo1.

¹⁴ All reports and any information from individual reports are subject to the confidentiality provisions of Section 709(e) of Title VII of the Civil Rights Act of 1964, 42 U.S.C. 2000e-8(e), as amended (Title VII) and may not be made public by the EEOC prior to the institution of any proceeding under Title VII involving the EEO-1 Component 1 data. Any EEOC employee who violates this prohibition may be found guilty of a criminal misdemeanor and could be fined or imprisoned. The confidentiality requirements allow the EEOC to publish only aggregated data, and only in a manner that does not identify any particular filer or reveal any individual employee's personal information. With respect to other federal agencies with a legitimate law enforcement purpose but without OFCCP's independent authority to collect EEO-1 data, the EEOC gives access to information collected under Title VII only if the agencies agree, by letter or memorandum of understanding, to comply with the confidentiality provisions of Title VII. In addition, section 709(d) (42 U.S.C. 2000e-8(d) provides that the EEOC shall furnish upon request and without cost to state or local civil rights agencies information about employers in their jurisdiction on the condition that they not make it public prior to starting a proceeding under state or local law involving such information. The EEOC shares EEO-1 data with Fair Employment Practices Agencies (FEPAs) pursuant to Worksharing Agreements that impose obligations on the contracted FEPA with respect to confidentiality, privacy, and data security. On a case-by-case basis, the EEOC may share EEO-1 data with a FEPA that does not have a Worksharing Agreement, but only if that FEPA agrees to comply with confidentiality, privacy, and data security obligations similar to those imposed on FEPAs with Worksharing Agreements.

¹⁵ Any reports the EEOC publishes based on EEO-1 data include only aggregated EEO-1 data that protect the confidentiality of each employer's information, as well as the privacy of each employee's personal information.

Burden Statement: The methodology used in this Notice to calculate the burden for the collection of EEO-1 Component 1 data is to separate Single-Establishment and Multi-Establishment filers and calculate the burden by considering the following factors: (1) the type of filer (i.e., Single-Establishment or Multi-Establishment filer); ¹⁶ (2) the combination of report types submitted by the filer (i.e., “Single-Establishment Filer Report” or, for Multi-Establishment filers, the “Consolidated Report,” “Headquarters Report,” and “Establishment-Level Report(s)”); ¹⁷ and (3) the total number of reports filers will certify to complete their EEO-1 Component 1 submission.¹⁸

¹⁶ An establishment is an economic unit that produces goods or services, at a single physical location, and is engaged in one or predominantly one activity. See https://www.bls.gov/charts/county-employment-and-wages/employment-by-size.htm for more information on establishments by size. For purposes of the EEO-1 Component 1, the EEOC defines a Single-Establishment filer as an employer conducting business at only one establishment. The EEOC defines a Multi-Establishment filer as an employer conducting business at more than one establishment. Based on the last three EEO-1 Component 1 data collection cycles, approximately 41% of all filers report data for a single establishment, while approximately 59% report data for multiple establishments. Historically, Multi-Establishment filers submit more than 98% of all reports.

¹⁷ A Single-Establishment filer is required to submit only a “Single-Establishment Filer Report” (formerly referred to as a “Type 1” Report). A Multi-Establishment filer is required to submit a summary “Consolidated Report” (formerly referred to as a “Type 2” Report), a “Headquarters Report” (formerly referred to as a “Type 3” Report”), and a separate “Establishment-Level Report” for each non-headquarters establishment (formerly referred to as a “Type 4” Report for establishments with 50 or more employees and a “Type 8” Report for establishments with fewer than 50 employees). The “Consolidated Report” is auto-populated and auto-generated for all Multi-Establishment filers within the EEOC's EEO-1 Component 1 Online Filing System with data from their “Headquarters Report” and “Establishment-Level Report(s)” (formerly “Type 4” and “Type 8” Reports).

¹⁸ For this Notice, the EEOC is using the same methodology for calculating burden and considering the same factors as the agency did for the prior EEO-1 Component 1 Information Collection Review (ICR) for reporting years 2019, 2020, and 2021. See Notice of Information Collection 84 FR 48138 (Sept. 12, 2019) at https://www.govinfo.gov/content/pkg/FR-2019-09-12/pdf/2019-19767.pdf and Notice of Information Collection 85 FR 16348 (Mar. 23, 2020) at https://www.govinfo.gov/content/pkg/FR-2020-03-23/pdf/2020-06008.pdf.

Reporting time estimates for EEO-1 Component 1 filers are based on the most recently completed EEO-1 Component 1 collection cycle (i.e., the 2021 EEO-1 Component 1 data collection).¹⁹ At the end of the 2021 EEO-1 Component 1 data collection, there were a total of 91,793 filers and a total of 1,507,372 reports submitted.²⁰ Based on data trends over the last three EEO-1 Component 1 data collection reporting years (i.e., 2019, 2020, 2021),²¹ as well as ongoing updates by the EEOC to the EEO-1 Component 1 frame (i.e., filer roster or master list), the EEOC believes the total number of filers submitting at least one report may increase to 110,000. The EEOC further estimates Single-Establishment filers (formerly referred to as “Type 1” filers) will continue to represent approximately 40% of EEO-1 Component 1 filers and will submit less than 2% of all reports, while Multi-Establishment filers (formerly referred to as “Type 2” filers) will continue to represent approximately 60% of EEO-1 Component 1 filers and will submit more than 98% of all reports.

¹⁹ The 2021 EEO-1 Component 1 data collection cycle opened on April 12, 2022 and ended on June 21, 2022.

²⁰ For the 2021 EEO-1 Component 1 data collection, these 1,507,372 reports were made up of the following types of reports: “Type 1” (now referred to as a “Single-Establishment Filer Report”); “Type 2” (now referred to as a “Consolidated Report”); “Type 3” (now referred to as a “Headquarters Report”); and “Type 4” and “Type 8” (now referred to as “Establishment-Level Report(s)”).

²¹ The 2019 EEO-1 Component 1 data collection was delayed until 2021 due to the Coronavirus Disease 2019 (COVID-19) public health emergency. As a result, the 2019 and 2020 EEO-1 Component 1 data collections were collected concurrently in 2021. See https://www.federalregister.gov/documents/2020/05/08/2020-09876/delay-in-opening-of-2019-eeo-1-component-1-and-2020-eeo-3-and-2020-eeo-5-data-collections-due-to-the. Additionally, beginning with the 2019 and 2020 EEO-1 Component 1 data collections, the EEOC onboarded a new contractor, Westat, to administer the agency's EEO data collections, including the EEO-1 Component 1 data collection. In addition to retaining a new contractor, the EEOC launched a new dedicated EEO-1 Component 1 data collection website at www.eeocdata.org/eeo1 and created a new electronic reporting system, the EEO-1 Component 1 Online Filing System.

As discussed in the 2019 and 2020 60-day Notices,²² the EEOC created the Office of Enterprise Data and Analytics (OEDA) in May 2018 with the goal of creating a 21st century data and analytics organization at the agency. Since its creation, OEDA, which administers the agency's data collections, including the EEO-1, has undertaken several efforts to modernize the collections and improve the quality of data collected. OEDA has also streamlined functions, such as providing additional self-service options, resource materials, and an online support message center. As part of these ongoing modernization efforts, OEDA identified additional burden-reducing measures to streamline how the current EEO-1 Component 1 workforce demographic data are collected from employers. This request for clearance under the PRA of the EEO-1 Component 1 includes changes that make the EEO-1 filing process more user-friendly and less burdensome.

²² See Notice of Information Collection 84 FR 48138, 48139 (Sept. 12, 2019) at https://www.govinfo.gov/content/pkg/FR-2019-09-12/pdf/2019-19767.pdf and Notice of Information Collection 85 FR 16348, 16341 (Mar. 23, 2020) at https://www.govinfo.gov/content/pkg/FR-2020-03-23/pdf/2020-06008.pdf.

Beginning with the 2022 EEO-1 Component 1 data collection, Multi-Establishment filers will no longer be required to file a separate “type” of establishment report based on the size of an individual non-headquarters establishment (i.e., establishments with 50 or more employees or establishments with fewer than 50 employees). Rather, in place of the “Type 4” and “Type 8” reports, there will be a newly named “Establishment-Level Report.” ²³ All Multi-Establishment filers will use the Establishment-Level Report to submit establishment-level employee demographic data for each of their non-headquarters establishment(s) regardless of size.²⁴ With this change, a Multi-Establishment filer will no longer have to take the additional step of counting employees in each establishment to determine whether to file a Type 4 or Type 8 report. Multi-Establishment filers will still be required to submit a “Headquarters” Report (formerly referred to as a “Type 3” Report) and a “Consolidated Report” (formerly referred to as a “Type 2” Report). However, all individual “Consolidated Reports” for all Multi-Establishment filers will be auto-populated and auto-generated with data from their “Headquarters Report” and “Establishment-Level Report(s)” within the EEOC's electronic, web-based EEO-1 Component 1 Online Filing System.

²³ The Type 4 report contains establishment-level employee demographic data at a non-headquarters establishment with 50 or more employees. The Type 8 report contains establishment-level employee demographic data at a non-headquarters establishment with fewer than 50 employees.

²⁴ This collection that is the subject of this notice does not include the “Type 6” Establishment List Reports by Multi-Establishment filers for the reporting of non-headquarters establishments with fewer than 50 employees. With the discontinuation of the “Type 6” Establishment List Report, a “Consolidated Report” can be auto-populated and auto-generated with data from a Multi-Establishment filer's “Headquarters Report” and “Establishment-Level Report(s)” within the EEOC's electronic, web-based EEO-1 Component 1 Online Filing System for all Multi-Establishment filers.

Based upon the anticipated 110,000 filers submitting EEO-1 Component 1 reports, the EEOC estimates these filers will submit a total of 2,235,938 reports annually, for reporting years 2022, 2023, and 2024.²⁵ The EEOC estimates 44,257 Single-Establishment filers will submit a single “Single-Establishment Filer Report,” and it will take these filers 33,193 hours to do so. The EEOC estimates 65,743 Multi-Establishment filers will submit 2,191,681 reports. By definition, all EEO-1 Component 1 Multi-Establishment filers must submit, at minimum, a “Consolidated Report” (formerly “Type 2”), a “Headquarters Report” (formerly “Type 3”), and at least one “Establishment-Level Report” (formerly “Type 4” or “Type 8”).²⁶ The total number of “Establishment-Level Reports” filed by EEO-1 Component 1 Multi-Establishment filers varies greatly among filers, with the plurality of filers filing one establishment report,²⁷ and a small number of filers filing many reports (i.e., a small number of Multi-Establishment filers account for a large portion of overall “Establishment-Level Reports” submitted).²⁸

²⁵ This total includes the 65,743 consolidated reports submitted by Multi-Establishment filers that are auto-populated and auto-generated by the EEO-1 Component 1 Online Filing System. While these reports contribute to the total report count, they have no associated burden.

²⁶ Beginning with the 2022 EEO-1 Component 1 data collection, the EEOC is renaming the reports submitted by filers. The naming convention for EEO-1 Component 1 reports will no longer include the word “Type” or a specific number corresponding to “Type.” The “Type 1” Report will be renamed the “Single-Establishment Filer Report.” The “Type 2” Report will be renamed the “Consolidated Report.” The “Type 3” Report will be renamed the “Headquarters Report.” The “Type 4” Report and “Type 8” Report will be renamed the “Establishment-Level Report,” and as noted above, the “Type 6” Establishment List Report is discontinued. Moving forward, Multi-Establishment filers will no longer file a separate “type” of report based on the number of employees at a non-headquarters establishment. All multi-establishment filers will simply file an “Establishment-Level Report” for each non-headquarters establishment regardless of the number of employees at the establishment.

²⁷ For the 2021 EEO-1 Component 1 data collection, the modal number of reports submitted by Multi-Establishment filers was three reports: one “Headquarters Report” (formerly “Type 3” Report), one “Establishment-Level Report” (formerly “Type 4” Report or “Type 8” Report), and one auto-populated and auto-generated “Consolidated Report” (formerly “Type 2” Report). The median number of reports submitted by Multi-Establishment filers was eight reports: one “Headquarters Report” (formerly “Type 3” Report), six “Establishment-Level Reports” (formerly “Type 4” Report or “Type 8” Report), and one auto-populated and auto-generated “Consolidated Report” (formerly “Type 2” Report).

²⁸ For example, in the 2021 EEO-1 Component 1 data collection, there were individual Multi-Establishment filers whose submissions included thousands of reports for their non-headquarters establishments.

Table 1 (below) outlines the number of reports, the average reporting time by report type, and the aggregate number of hours estimated to submit these reports. The aggregate reporting time for EEO-1 Component 1 filers by report type varies between a low of 33,193 hours for Single-Establishment filers submitting a “Single-Establishment Filer Report,” and a high of 5,150,488 for Multi-Establishment filers submitting “Establishment-Level Reports.” When accounting for the aggregate reporting time for EEO-1 Component 1 Multi-Establishment filers to complete a “Headquarters Report” (54,786 hours), the total aggregate reporting time for EEO-1 Component 1 filers is 5,238,467 hours.

Table 1—Projected Annual Burden for EEO-1 Component 1 Reporting Years 2022, 2023, 2024, by Report Type and Reporting Time
| Number of reports | Average reporting time (minutes) | Aggregate reporting time (hours)
Single-Establishment Filer Report ᵃ | 44,257 | 45 | 33,193
Consolidated Report ᵇ | 65,743 | 0 | 0
Headquarters Report ᶜ | 65,743 | 50 | 54,786
Establishment-Level Report ᵈ | 2,060,195 | 150 | 5,150,488
Total | 2,235,938 |  | 5,238,467
ᵃ A “Single-Establishment Filer Report” must be submitted by all Single-Establishment filers. A Single-Establishment filer is required to submit only one report. This report must contain demographic data for all the Single-Establishment filer's employees categorized by job category and sex and race or ethnicity. The “Single-Establishment Filer Report” was formerly referred to as a “Type 1” Report.
ᵇ A “Consolidated Report” is required for all Multi-Establishment filers. A “Consolidated Report” must contain demographic data for all the Multi-Establishment filer's employees (i.e., employees at headquarters and all establishments), categorized by job category and sex and race or ethnicity. The “Consolidated Report” was formerly referred to as a “Type 2” Report. The “Consolidated Report” is auto-populated and auto-generated within the EEOC's electronic web-based EEO-1 Component 1 Online Filing System for all Multi-Establishment filers with data from their “Headquarters Report” (formerly “Type 3” Report) and “Establishment-Level Report(s)” (formerly “Type 4” Report and “Type 8” Report). Therefore, there is no associated burden.
ᶜ A “Headquarters Report” must be submitted by all Multi-Establishment filers. The report must contain demographic data for all the Multi-Establishment filer's headquarters employees, categorized by job category and sex and race or ethnicity. The “Headquarters Report” was formerly referred to as a “Type 3” Report.
ᵈ An “Establishment-Level Report” must be submitted by all Multi-Establishment filers for each non-headquarters establishment. An “Establishment-Level Report” must contain establishment-level demographic data for all employees at each of the Multi-Establishment filer's non-headquarters establishments categorized by job category and sex and race or ethnicity. One “Establishment-Level Report” must be submitted for each non-headquarters establishment. For example, if a Multi-Establishment filer has 10 non-headquarters establishments, the filer must submit 10 “Establishment-Level Reports.” Beginning with the 2022 EEO-1 Component 1 data collection, Multi-Establishment filers will no longer be required to file a separate “type” of establishment report based on the size of an individual non-headquarters establishment (i.e., establishments with 50 or more employees or establishments with fewer than 50 employees). Rather, a Multi-Establishment filer will submit an “Establishment-Level Report” to report establishment-level employee demographic data for each of its non-headquarters establishment(s) regardless of size.

An estimate of the total number of respondents and the amount of time estimated for an average respondent to respond: The estimated number of respondents that must file EEO-1 Component 1 data for the next three reporting years (i.e., 2022, 2023, 2024) is 110,000 filers each year. Each filer is required to respond to the EEO-1 Component 1 once annually. The burden estimate is based on data from prior administrations of the EEO-1 Component 1 data collection. The EEOC estimates the 110,000 filers will submit a total of 2,235,938 reports annually. About 40% of EEO-1 Component 1 filers (i.e., 44,257 Single-Establishment filers) will submit one report (i.e., a “Single-Establishment Filer Report”) on a single establishment. It is estimated these Single-Establishment filers will take an average of 45 minutes per reporting year to complete their EEO-1 Component 1 Report. About 60% of EEO-1 Component 1 filers (i.e., 65,743 Multi-Establishment filers) will report data on multiple establishments. For each reporting year, all Multi-Establishment filers must submit a “Consolidated Report,” a “Headquarters Report,” and an “Establishment-Level Report(s)” for each establishment, resulting in an estimated total of 2,191,681 reports submitted.²⁹ While the actual submission time for each Single-Establishment and Multi-Establishment filer varies,³⁰ for purposes of this Notice the EEOC estimates that it will take an average filer under three hours to complete their EEO-1 Component 1 Report. The EEOC estimates a lower burden per filer for the 2022, 2023, and 2024 EEO-1 Component 1 data collections as a result of the following measures to streamline how filers submit their workforce demographic data: (1) discontinuation of the “Type 6” Establishment List Report; (2) auto-population and auto-generation of “Consolidated Reports” for Multi-Establishment filers within the EEO-1 Component 1 Online Filing System (OFS); and (3) implementation of a single “Establishment-Level Report” for each non-headquarters establishment regardless of size.

²⁹ This total includes the 65,743 “Consolidated Reports” (formerly “Type 2” Report) submitted by Multi-Establishment filers, which are auto-populated and auto-generated by the EEO-1 Component 1 Online Filing System. While these reports contribute to the total report count, they have no associated burden.

³⁰ Burden for Single-Establishment filers is based on a single report. Burden for Multi-Establishment filers is cumulative and is based on the report type combination. EEO-1 Component 1 project staff estimate the average completion time for the “Consolidated Report” would be 0 minutes since this report is auto-populated and auto-generated within the EEOC's electronic web-based EEO-1 Component 1 Online Filing System for all Multi-Establishment filers with data from their “Headquarters Report” and “Establishment-Level Report(s).” The completion of the “Headquarters Report” adds an average of 50 minutes to the burden, and the completion of “Establishment-Level Report(s)” adds an average of 2.5 hours to burden. Therefore, a Multi-Establishment filer will have an average burden of 3.3 hours (0 hours for the “Consolidated Report”, plus 50 minutes for the “Headquarters Report”, plus 2.5 hours for the “Establishment-Level Report(s)”).

An estimate of the total public burden (in hours) associated with the collection: Because it will take an average filer approximately three hours to complete its EEO-1 Component 1 Report, the collection of EEO-1 Component 1 data for reporting years 2022, 2023, and 2024 is estimated to impose 5,238,467 annual burden hours for 2,235,938 EEO-1 Component 1 Reports filed each reporting year.

For the Commission.
Charlotte A. Burrows,
Chair.

[FR Doc. 2022-24518 Filed 11-9-22; 8:45 am]

BILLING CODE P